DEPARTMENT OF TRANSPORTATION

National Highway Traffic Safety Administration

[Docket No. NHTSA—2016-0084; Notice 2]

Withdrawal of Amendments to Highway Safety Program Guidelines

AGENCY: National Highway Traffic Safety Administration (NHTSA), Department of Transportation.

ACTION: Notice withdrawal.

On August 23, 2016, NHTSA inadvertently published, at 81 FR 57646, a notice seeking comments on a new uniform guideline for State highway safety programs, issued pursuant to section 402 of title 23 of the United States Code requires the Secretary of Transportation to promulgate uniform guidelines for State highway safety programs. NHTSA is withdrawing the August 23, 2016 notice.

Authority: 44 U.S.C. Section 3506(c)(2)(A).

Issued on: August 23, 2016.
Jeff Michael,
Associate Administrator, Research and Program Development.

[FR Doc. 2016-20578 Filed 8-24-16; 11:15 am]

BILLING CODE 4910-59-P